DEPARTMENT OF COMMERCE

National Oceanic and Atmospheric Administration

[I.D. 102005B]

Fisheries of the Exclusive Economic Zone Off Alaska; Notice of Crab Rationalization Program Public Workshop

AGENCY: National Marine Fisheries Service (NMFS), National Oceanic and Atmospheric Administration (NOAA), Commerce.

ACTION: Notice of public workshop.

SUMMARY: NMFS will present a public workshop on the new Crab Rationalization Program (Program) for participants in the Bering Sea and Aleutian Islands (BSAI) king and Tanner crab fisheries. At this workshop, NMFS will review the Program, discuss the key Program elements, provide information on the application process, and answer questions. This workshop is specifically intended to address issues related to the Arbitration System portion of the Program. NMFS is conducting this public workshop to assist participants comply with the requirements of this new Program.

DATES: Workshop will be held November 18, 2005, from 10 a.m. to 1 p.m. Pacific standard time.

ADDRESSES: The workshop will be held at the Qwest Field and Event Center, Room C3, 800 Occidental Ave. South, Seattle, WA.

FOR FURTHER INFORMATION CONTACT: Glenn Merrill, 907-586-7228 or glenn.merrill@noaa.gov.

SUPPLEMENTARY INFORMATION: On March 2, 2005, NMFS published a final rule implementing the Program as Amendments 18 and 19 to the Fishery Management Plan for Bering Sea/Aleutian Islands King and Tanner Crabs (70 FR 10174). The final rule was effective on April 2, 2005.

NMFS has conducted six public workshops on key Program elements. Four of those workshops were conducted in March and April of 2005 in Alaska, Oregon, and Washington to assist fishery participants comply with the requirements of the Program. At these workshops, NMFS reviewed the Program, discussed the key Program elements, and provided information on the application process. The remaining two workshops were held in Seattle, Washington in May and September of 2005, and focused on the Arbitration System.

The November 18, 2005 workshop is also intended to focus on the Arbitration System. One issue not previously addressed in the May and September workshops will be the focus. Specifically, NMFS will provide an overview of existing regulatory requirements which create timing conflicts related to the start of the crab fishing season, the deadline for the initiation of binding arbitration, and the deadline for initiating share matching under the Arbitration System (see 50 CFR 680.20(h)(3)(iv) for more details). NMFS will review this timing conflict and provide an opportunity for public comments. Program elements related to economic data collection, monitoring and enforcement, electronic reporting, quota share and individual fishing quota application and transfer provisions, the appeals process, fee collection, and the loan program may be addressed secondarily. Additionally, NMFS will answer questions from workshop participants. For further information on the Program, please visit the NMFS Alaska Region Internet site at www.fakr.noaa.gov.

Special Accommodations

This workshop is physically accessible to people with disabilities. Requests for special accommodations should be directed to Glenn Merrill (see FOR FURTHER INFORMATION CONTACT) by November 10, 2005.

Dated: October 27, 2005.
Anne M. Lange,
Acting Director, Office of Sustainable Fisheries, National Marine Fisheries Service.

[FR Doc. 05-21872 Filed 11-1-05; 8:45 am]

BILLING CODE 3510-22-S